DEPARTMENT OF TRANSPORTATION

Federal Aviation Administration

[Summary Notice No. PE-2002-17]

Petitions for Exemption; Dispositions of Petitions Issued

AGENCY: Federal Aviation Administration (FAA), DOT.

ACTION: Notice of dispositions of prior petitions.

SUMMARY: Pursuant to FAA's rulemaking provisions governing the application, processing, and disposition of petitions for exemption part 11 of Title 14, Code of Federal Regulations (14 CFR), this notice contains the dispositions of certain petitions previously received. The purpose of this notice is to improve the public's awareness of, and participation in, this aspect of FAA's regulatory activities. Neither publication of this notice nor the inclusion or omission of information in the summary is intended to affect the legal status of any petition or its final disposition.

FOR FURTHER INFORMATION CONTACT: Denise Emrick (202) 267-5174, Office of Rulemaking (ARM-1), Federal Aviation Administration, 800 Independence Avenue, SW., Washington, DC 20591.

This notice is published pursuant to 14 CFR 11.85 and 11.91.

Issued in Washington, DC on March 14, 2002.
Donald P. Byrne,
Assistant Chief Counsel for Regulations.

Dispositions of Petitions

Docket No.: FAA-2002-11458.

Petitioner: Northern Air Fuel, Inc.

Section of 14 CFR Affected: 14 CFR 91.9(a).

Description of Relief Sought/Disposition: To permit Northern Air Fuel to operate its DC-6A and DC-6B aircraft at a 5 percent increased zero fuel and landing weight for the purpose of operating all-cargo aircraft to provide supplies to people in isolated villages in Alaska.

Grant, 02/06/2002, Exemption No. 7709

Docket No.: FAA-2001-8828.

Petitioner: Ayres Corporation.

Section of 14 CFR Affected: 14 CFR 61.31(a)(1).

Description of Relief Sought/Disposition: To permit Ayres pilots when operating an Ayres Model S2R-T660 aircraft (S2R-T660) to act as pilot in command (PIC) without holding a type rating for that aircraft.

Grant, 01/25/2002, Exemption No. 7708.

Docket No.: FAA-2002-11559.

Petitioner: Brim Equipment Leasing, Inc. dba Brim Aviation.

Section of 14 CFR Affected: 14 CFR 135.143(c)(2).

Description of Relief Sought/Disposition: To permit Brim Aviation to operate certain aircraft under part 135 without a TSO-C112 (Mode S) transponder installed on those aircraft.

Grant, 02/19/2002, Exemption No. 7176A (Previously Docket No. 29902)

Docket No.: FAA-2002-11557.

Petitioner: Bemidji Aviation Services, Inc.

Section of 14 CFR Affected: 14 CFR 135.143(c)(2).

Description of Relief Sought/Disposition: To permit Bemidji to operate certain aircraft under part 135 without a TSO-C112 (Mode S) transponder installed on those aircraft.

Grant, 02/25/2002, Exemption No. 6110C (Previously Docket No. 28173)

Docket No.: FAA-2002-11554.

Petitioner: Adeletom Aviation. LLC.

Section of 14 CFR Affected: 14 CFR 135.143(c)(2).

Description of Relief Sought/Disposition: To permit Adeletom to operate certain aircraft under part 135 without a TSO-C112 (Mode S) transponder installed on those aircraft.

Grant, 02/25/2002, Exemption No. 7201A (Previously Docket No. 29911).

Docket No.: FAA-2002-11508.

Petitioner: Premier Jets, Inc.

Section of 14 CFR Affected: 14 CFR 135.143(c)(2).

Description of Relief Sought/Disposition: To permit Premier Jets to operate certain aircraft under part 135 without a TSO-C112 (Mode S) transponder installed on those aircraft.

Grant, 02/14/2002, Exemption No. 7160A (Previously Docket No. 29195).

Docket No.: FAA-2002-11655.

Petitioner: IHC Health Services, Inc. dba IHC Life Flight.

Section of 14 CFR Affected: 14 CFR 133.45(e)(1).

Description of Relief Sought/Disposition: To permit IHC to conduct Class D rotorcraft-load combination rescue operations with an Agusta A 109K-2 helicopter certificated in the normal category under 14 CFR part 27.

Grant, 02/25/2002, Exemption No. 7118A (Previously Docket No. 29732).

Docket No.: FAA-2002-11485.

Petitioner: Southwest Airlines Company.

Section of 14 CFR Affected: 14 CFR 121.434(c)(1)(ii).

Description of Relief Sought/Disposition: To permit Southwest to substitute a qualified and authorized check airman in place of an FAA inspector to observe a qualifying pilot in command (PIC) while that PIC is performing prescribed duties during at least one flight leg that includes a takeoff and landing when completing initial or upgrade training as specified in § 121.424.

Grant, 02/25/2002, Exemption No. 7132A (Previously Docket No. 29836).

Docket No.: FAA-2002-11352.

Petitioner: Continental Micronesia Airlines, Inc.

Section of 14 CFR Affected: 14 CFR 121.291(b)(1) and 121.291(d).

Description of Relief Sought/Disposition: To permit Continental Micronesia Airlines to operate Boeing 737-800 airplanes without conducting a partial demonstration of emergency evacuation procedures upon the initial introduction of a type and model of airplane into passenger/carrying operations, and without showing by simulated ditching that it has the ability to efficiently carry out its ditching procedures.

Denial, 02/22/2002, Exemption No. 7718.

Docket No.: FAA-2002-11556.

Petitioner: Grant Aviation, Inc.

Section of 14 CFR Affected: 14 CFR 135.143(c)(2).

Description of Relief Sought/Disposition: To permit Grant to operate certain aircraft under part 135 without a TSO-C112 (Mode S) transponder installed on those aircraft.

Grant, 02/19/2002, Exemption No. 7221A (Previously Docket No. 3008)

Docket No.: FAA-2002-11491.

Petitioner: Grant Aircraft Company.

Section of 14 CFR Affected: 14 CFR 91.9(a) and 91.531(a) (1) and (2).

Description of Relief Sought/Disposition: To permit Cessna to allow certain qualified pilots of Cessna Citation Model 550, S550, 552, or 560 aircraft to operate those aircraft without a pilot who is designated as second in command.

Grant, 02/25/2002, Exemption No. 4050L (Previously Docket No. 23771)

Docket No.: FAA-2001-10555.

Petitioner: DHL Airways, Inc.

Section of 14 CFR Affected: 14 CFR 121.433(c)(1)(iii) and 121.441 (a)(1) and (b)(1), and, appendix F to part 121.

Description of Relief Sought/Disposition: To permit DHL to combine recurrent flight and ground training and proficiency checks to DHL's flight crewmembers into a single annual training and proficiency evaluation program.

Grant, 02/20/2002, Exemption No. 6727B (Previously Docket No. 28808)

Docket No.: FAA-2002-11458.

Petitioner: Northern Air Fuel, Inc.

Section of 14 CFR Affected: 14 CFR 91.9(a).

Description of Relief Sought/Disposition: To permit Northern Air Fuel to operate its DC-6A and DC-6B aircraft at a 5 percent increased zero fuel and landing weight for the purpose of operating all-cargo aircraft to provide supplies to people in isolated villages in Alaska.

Grant, 02/25/2002, Exemption No. 7709A

Docket No.: FAA-2002-11563.

Petitioner: Better Living Aviation.

Section of 14 CFR Affected: 14 CFR 135.143(c)(2).

Description of Relief Sought/Disposition: To permit Better Living Aviation to operate certain aircraft under part 135 without a TSO-C112 (Mode S) transponder installed on those aircraft.

Grant, 02/19/2002, Exemption No. 7206A (Previously Docket No. 29956)

[FR Doc. 02-6650 Filed 3-19-02; 8:45 am]

BILLING CODE 4910-13-M